DEPARTMENT OF LABOR

Employment and Training Administration

[NAFTA-7582]

BBA Nonwovens Washougal, Inc., Washougal, WA; Notice of Termination of Investigation

Pursuant to Title V of the North American Free Trade Agreement Implementation Act (Pub. L. 103-182) concerning transitional adjustment assistance, hereinafter called (NAFTA-TAA), and in accordance with section 250(a), subchapter D, chapter 2, title II, of the Trade Act of 1974, as amended (19 U.S.C. 2273), an investigation was initiated on September 27, 2002, in response to a petition filed by Association of Western Pulp and Paper Workers, Local 5 on behalf of workers at BBA Nonwovens Washougal, Inc., Washougal, Washington.

The petitioner has requested that the petition be withdrawn. Consequently further investigation in this case would serve no purpose, and the investigation has been terminated.

Signed in Washington, DC, this 21st day of October, 2002.
Linda G. Poole,
Certifying Officer, Division of Trade Adjustment Assistance.

[FR Doc. 02-28393 Filed 11-6-02; 8:45 am]

BILLING CODE 4510-30-P